ENVIRONMENTAL PROTECTION AGENCY

40 CFR Part 80

[EPA-HQ-OAR-2011-0135; FRL-9799-6]

RIN 2060-AQ86

Control of Air Pollution From Motor Vehicles: Tier 3 Motor Vehicle Emission and Fuel Standards; Public Hearing and Comment Period

AGENCY: Environmental Protection Agency (EPA).

ACTION: Announcement of public hearings and comment period.

SUMMARY: The EPA is announcing two public hearings to be held for the proposed rule “Control of Air Pollution from Motor Vehicles: Tier 3 Motor Vehicle Emission and Fuel Standards” (the proposed rule is hereinafter referred to as “Tier 3”), which will be published separately in the Federal Register. The hearings will be held in Philadelphia, PA on April 24, 2013 and in Chicago, IL on April 29, 2013. The comment period for the proposed rulemaking will end on June 13, 2013.

DATES: The public hearings will be held on April 24, 2013 in Philadelphia, PA and on April 29, 2013 in Chicago, IL. To register to testify at either hearing, notify the contact person listed under FOR FURTHER INFORMATION CONTACT at least one week before the date of the hearing. Information regarding time of the hearing is also listed below in SUPPLEMENTARY INFORMATION. The comment period will end on June 13, 2013.

ADDRESSES: The hearings will be held at the following locations: The April 24, 2013 hearing will be held at the Sonesta Hotel Philadelphia, 1800 Market Street, Philadelphia, PA 19103; the April 29, 2013 hearing will be held at the Doubletree Magnificent Mile, 300 E. Ohio Street, Chicago, IL 60611. In addition, a conference call-in line will be provided to allow for the opportunity for the public to listen to each hearing; information regarding the conference number and passcode will be posted at www.epa.gov/otaq/tier3.htm. Please note that this conference line will allow the public to listen only; persons listening will not be able to give an oral presentation via the conference line. Written comments on the proposed rule may also be submitted to EPA electronically, by mail, by facsimile, or through hand delivery/courier. Please refer to the notice of proposed rulemaking for the addresses and detailed instructions for submitting written comments.

When the proposed rule is published in the Federal Register, a complete set of documents related to the proposal will be available for public inspection at the EPA Docket Center, located at 1301 Constitution Avenue NW., Room 3334, Washington, DC between 8:30 a.m. and 4:30 p.m., Monday through Friday, excluding legal holidays. A reasonable fee may be charged for copying. Documents are also available through the electronic docket system at http://www.regulations.gov. The EPA Web site for the rulemaking, which includes a copy of the pre-publication version of the proposal, can be found at: www.epa.gov/otaq/tier3.htm.

FOR FURTHER INFORMATION CONTACT: If you would like to present oral testimony at one of the public hearings, please contact JoNell Iffland, Office of Transportation and Air Quality, Assessment and Standards Division, Environmental Protection Agency, 2000 Traverwood Drive, Ann Arbor, MI 48105; telephone number: (734) 214-4454; Fax number: (734) 214-4816; Email address: Iffland.jonell@epa.gov. Please provide the following information: Name, affiliation, address, email address, telephone and fax numbers, time you wish to speak (morning, afternoon, or no preference; we will try to accommodate these requests in as much as possible), and whether you require accommodations such as a sign language interpreter or translator.

SUPPLEMENTARY INFORMATION: The proposal for which EPA is holding the public hearings will be published separately in the Federal Register. A pre-publication copy of the signed notice of proposed rulemaking has been available since March 29, 2013, on the following Web site: www.epa.gov/otaq/tier3.htm. EPA is proposing Tier 3 regulations to establish more stringent vehicle emissions standards and reduce the sulfur content of gasoline beginning in 2017, as part of a systems approach to addressing the impacts of motor vehicles and fuels on air quality and public health. The proposed gasoline sulfur standard would make emission control systems more effective for both existing and new vehicles, and would enable more stringent vehicle emissions standards. The proposed vehicle standards would reduce both tailpipe and evaporative emissions from passenger cars, light-duty trucks, medium-duty passenger vehicles, and some heavy-duty vehicles. This would result in significant reductions in pollutants such as ozone, particulate matter, and air toxics across the country and help state and local agencies in their efforts to attain and maintain health-based National Ambient Air Quality Standards. Motor vehicles are an important source of exposure to air pollution both regionally and near roads. The proposed Tier 3 vehicle standards are intended to harmonize with California's Low Emission Vehicle program, thus creating a federal vehicle emissions program that would allow automakers to sell the same vehicles in all 50 states. The proposed vehicle standards would be implemented over the same timeframe as the greenhouse gas/fuel efficiency standards for light-duty vehicles, as part of a comprehensive approach toward regulating emissions from motor vehicles.

Public Hearing: The public hearings will provide interested parties the opportunity to present data, views, or arguments concerning the proposed rule. The EPA may ask clarifying questions during the oral presentations, but will not respond to the presentations at that time. Written statements and supporting information submitted during the comment period will be considered along with any oral comments and supporting information presented at the public hearing. Written comments must be received by the last day of the comment period.

The public hearings will be held on April 24, 2013 in Philadelphia, PA and April 29, 2013 in Chicago, IL. Each hearing will begin at 10:00 a.m. local time and will continue until everyone has had a chance to speak. To testify at either of the public hearings, please notify the contact person listed under FOR FURTHER INFORMATION CONTACT at least one week before the hearing you wish to speak at. Once EPA learns how many people have registered to speak at each public hearing, we will allocate an appropriate amount of time to each participant, allowing time for lunch and necessary breaks throughout the day. In addition, we will reserve a block of time for anyone else in the audience who wishes to give an oral presentation. For planning purposes, each speaker should anticipate speaking for no more than ten minutes, although we may need to adjust the time for each speaker if there is a large turnout. We request that you bring three copies of your statement or other material for the EPA panel. It would also be helpful if you send us a copy of your statement or other materials before the hearing. To accommodate as many speakers as possible, we prefer that speakers not use technological aids (e.g., audio-visuals, computer slideshows, etc.). However, if you wish to do so, you must notify the contact person in the FOR FURTHER INFORMATION CONTACT section. You also must make arrangements to provide your presentation or any other aids to EPA in advance of the hearing in order to facilitate set-up.

We will make tentative schedules for the order of testimony at each hearing based on the notifications we receive. These schedules will be available on the morning of each hearing.

The hearings will be held at sites accessible to individuals with disabilities. Individuals who require accommodations such as sign language interpreters should contact the person listed under FOR FURTHER INFORMATION CONTACT section at least one week before the date of the of the hearing for which such accommodations are needed.

Written transcripts of the hearings and written statements submitted at a hearing will be included in the rulemaking docket.

Comment Period: The comment period will remain open until June 13, 2013.

How can I get copies of this document, the proposed rule, and other related information?

The EPA has established a docket for this action under Docket ID No. EPA-HQ-OAR- 2011-0135. The EPA has also developed a Web site for the proposed rule, including the notice of proposed rulemaking, at the address given above. Please refer to the notice of proposed rulemaking for detailed information on accessing information related to the proposal.

Dated: April 2, 2013.
Lori Stewart,
Acting Director, Office of Transportation and Air Quality.

[FR Doc. 2013-08121 Filed 4-5-13; 8:45 am]

BILLING CODE 6560-50-P